SECURITIES AND EXCHANGE COMMISSION

[Release No. 34-61692; File No. SR-OCC-2010-03]

Self-Regulatory Organizations; The Options Clearing Corporation; Notice of Filing of Proposed Rule Change Relating to ETFS Palladium Shares and ETFS Platinum Shares

Correction

In notice document 2010-5914 beginning on page 13169 in the issue of Thursday, March 18, 2010 make the following correction:

On page 13169, in the first column, the docket number is corrected to read as it appears above.

[FR Doc. C1-2010-5914 Filed 3-24-10; 8:45 am]

BILLING CODE 1505-01-D